DEPARTMENT OF ENERGY

Federal Energy Regulatory Commission

Combined Notice of Filings #1

Take notice that the Commission received the following electric rate filings:

Docket Numbers: ER10-2780-002.

Applicants: TransCanada Power Marketing Ltd.

Description: Notice of Non-Material Change in Status of TransCanada Power Marketing Ltd.

Filed Date: 6/27/17.

Accession Number: 20170627-5177.

Comments Due: 5 p.m. ET 7/18/17.

Docket Numbers: ER11-1850-007; ER11-1846-007; ER11-1847-007; ER11-1848-007; ER11-2598-010; ER13-1192-004.

Applicants: Direct Energy Business, LLC, Direct Energy Business Marketing, LLC, Direct Energy Marketing Inc., Direct Energy Services, LLC, Gateway Energy Services Corporation, Energy America, LLC.

Description: Northeast Region Triennial Report of the Direct Energy Sellers.

Filed Date: 6/28/17.

Accession Number: 20170628-5080.

Comments Due: 5 p.m. ET 8/28/17.

Docket Numbers: ER11-2370-006.

Applicants: Cambria CoGen Company.

Description: Triennial MBR Report for the Northeast Region of Cambria CoGen Company.

Filed Date: 6/28/17.

Accession Number: 20170628-5011.

Comments Due: 5 p.m. ET 8/28/17.

Docket Numbers: ER16-1134-001.

Applicants: TransCanada Power Marketing Ltd.

Description: TransCanada Power Marketing Ltd. submits tariff filing per 385.602: Revised Electric Tariff Settlement Compliance Filing [ER08-462 and EL16-32] to be effective 2/5/2016.

Filed Date: 6/27/17.

Accession Number: 20170627-5079.

Comments Due: 5 p.m. ET 7/18/17.

Docket Numbers: ER12-161-017; ER10-2460-013; ER10-2461-014; ER10-2463-013; ER10-2466-014; ER11-2201-017; ER11-4029-013; ER12-1311-013; ER12-2068-013; ER12-682-014; ER13-17-011.

Applicants: Bishop Hill Energy LLC, Blue Sky East, LLC, Canandaigua Power Partners, LLC, Erie Wind, LLC, Canandaigua Power Partners II, LLC, Evergreen Wind Power, LLC, Evergreen Wind Power III, LLC, Niagara Wind Power, LLC, Stetson Holdings, LLC, Stetson Wind II, LLC, Vermont Wind, LLC.

Description: Market Power Update for the Northeast region of Bishop Hill Energy LLC, et al.

Filed Date: 6/27/17.

Accession Number: 20170627-5185.

Comments Due: 5 p.m. ET 8/28/17.

Docket Numbers: ER17-1370-001; ER10-2636-011; ER10-2638-009; ER16-2271-001; ER16-2549-001; ER16-581-002; ER16-582-002; ER16-806-002.

Applicants: ENGIE Energy Marketing NA, Inc., ENGIE Portfolio Management, LLC, ENGIE Resources LLC, ENGIE Retail, LLC, Mt. Tom Generating Company, LLC, Pinetree Power-Tamworth, LLC, Waterbury Generation LLC, Nassau Energy, LLC.

Description: Updated Market Power Analysis for the Northeast Region of the ENGIE Northeast MBR Sellers under ER17-1370, et al.

Filed Date: 6/28/17.

Accession Number: 20170628-5070.

Comments Due: 5 p.m. ET 8/28/17.

Docket Numbers: ER17-1917-000.

Applicants: Midcontinent Independent System Operator, Inc., MidAmerican Energy Company.

Description: § 205(d) Rate Filing: 2017-06-27_SA 3021 Upland Prairie-MidAmerican E&P (J455) to be effective 6/14/2017.

Filed Date: 6/27/17.

Accession Number: 20170627-5130.

Comments Due: 5 p.m. ET 7/18/17.

Docket Numbers: ER17-1918-000.

Applicants: TransCanada Power Marketing Ltd.

Description: § 205(d) Rate Filing: TransCanada Power Marketing Ltd to be effective 6/28/2017.

Filed Date: 6/27/17.

Accession Number: 20170627-5155.

Comments Due: 5 p.m. ET 7/18/17.

Docket Numbers: ER17-1919-000.

Applicants: Arizona Public Service Company.

Description: § 205(d) Rate Filing: Rate Schedule No. 217, Exhibit B.RVL to be effective 10/1/2017.

Filed Date: 6/27/17.

Accession Number: 20170627-5167.

Comments Due: 5 p.m. ET 7/18/17.

Docket Numbers: ER17-1920-000.

Applicants: Midcontinent Independent System Operator, Inc., Michigan Electric Transmission Company.

Description: § 205(d) Rate Filing: 2017-06-28_SA 3026 METC-City of Holland SIFA to be effective 8/31/2017.

Filed Date: 6/28/17.

Accession Number: 20170628-5019.

Comments Due: 5 p.m. ET 7/19/17.

Docket Numbers: ER17-1921-000.

Applicants: Castleton Energy Services, LLC.

Description: Tariff Cancellation: Castleton Energy Services MBR Tariff Cancellation to be effective 6/30/2017.

Filed Date: 6/28/17.

Accession Number: 20170628-5043.

Comments Due: 5 p.m. ET 7/19/17.

Docket Numbers: ER17-1922-000.

Applicants: PJM Interconnection, L.L.C.

Description: Tariff Cancellation: Notice of Cancellation of Service Agreement No. 4333, Queue No. AA1-139 to be effective 6/6/2017.

Filed Date: 6/28/17.

Accession Number: 20170628-5063.

Comments Due: 5 p.m. ET 7/19/17.

Docket Numbers: ER17-1923-000.

Applicants: PJM Interconnection, L.L.C.

Description: § 205(d) Rate Filing: Revised SA Nos. 2274 and 2275—NITSAs among PJM and Allegheny Elec Cooperative to be effective 1/1/2017.

Filed Date: 6/28/17.

Accession Number: 20170628-5064.

Comments Due: 5 p.m. ET 7/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2017.
Nathaniel J. Davis, Sr.,
Deputy Secretary.

[FR Doc. 2017-14021 Filed 7-3-17; 8:45 am]

BILLING CODE 6717-01-P